DEPARTMENT OF ENERGY

Federal Energy Regulatory Commission

Sunshine Act; Meeting

July 21, 2004.

The following notice of meeting is published pursuant to section 3(A) of the Government in the Sunshine Act (Pub. L. 94-409), 5 U.S.C. 552b:

Agency Holding Meeting: Federal Energy Regulatory Commission.

Date and Time: July 28, 2004, 10 a.m.

Place: Room 2C, 888 First Street, NE., Washington, DC 20426.

Status: Open.

Matters to be Considered: Agenda.

Note—Items listed on the agenda may be deleted without further notice.

Contact Person for More Information: Magalie R. Salas, Secretary, Telephone (202) 502-8400. For a recording listing items, stricken from or added to the meeting, call (202) 502-8627.

This is a list of matters to be considered by the commission. It does not include a listing of all papers relevant to the items on the agenda; however, all public documents may be examined in the reference and information center.

866th—Meeting July 28, 2004 Regular Meeting 10 a.m.

Administrative Agenda

A-1.

DOCKET# AD02-1, 000, Agency Administrative Matters

A-2.

DOCKET# AD02-7, 000, Customer Matters, Reliability, Security and Market Operations

Markets, Tariffs and Rates—Electric

E-1.

DOCKET# ER04-691, 000, Midwest Independent Transmission System Operator, Inc.

OTHER#S EL04-104, 000, Public Utilities With Grandfathered Agreements in Midwest ISO Region

E-2.

DOCKET# EC04-81, 000, Ameren Corporation, Dynegy Inc., Illinova Corporation, Illinova Generating Company and Illinois Power Company

OTHER#S ER04-673, 000, Dynegy Midwest Generation, Inc., and Dynergy Power Marketing, Inc.

ER04-711, 000, Dynegy Power Marketing, Inc.

E-3.

DOCKET# ER04-445, 000, California Independent System Operator Corporation

OTHER#S ER04-435, 000, Southern California Edison Company

ER04-435, 001, Southern California Edison Company

ER04-435, 003, Southern California Edison Company

ER04-441, 000, San Diego Gas and Electric Company

ER04-441, 001, San Diego Gas and Electric Company

ER04-441, 002, San Diego Gas and Electric Company

ER04-443, 000, Pacific Gas and Electric Company

ER04-443, 001, Pacific Gas and Electric Company

ER04-443, 002, Pacific Gas and Electric Company

ER04-445, 001, California Independent System Operator Corporation

ER04-445, 002, California Independent System Operator Corporation

ER04-445, 003, California Independent System Operator Corporation

E-4.

DOCKET# EC02-113, 001, Cinergy Services, Inc., on behalf of PSI Energy, Inc., CinCap Madison, LLC and CinCap VII, LLC

E-5.

OMITTED

E-6.

DOCKET# EC03-53, 000, Ameren Energy Generating Company and Union Electric Company d/b/a AmerenUE

OTHER#S EC03-53, 001, Ameren Energy Generating Company and Union Electric Company d/b/a AmerenUE

E-7.

DOCKET# EL01-73, 002, Northeast Texas Electric Cooperative, Inc., Rusk County Electric Cooperative, Inc., Upshur-Rural Electric Cooperative, Inc., and Wood County Electric Cooperative, Inc.

E-8.

DOCKET# ER04-668, 000, Public Service Company of New Mexico

ER04-668, 001, Public Service Company of New Mexico

E-9.

DOCKET# ER04-898, 000, Virginia Electric and Power Company

E-10.

DOCKET# ER04-439, 001, PacifiCorp

OTHER#S ER04-439, 002, PacifiCorp

ER04-439, 000, PacifiCorp

E-11.

DOCKET# ER04-171, 000, Geysers Power Company, LLC

E-12.

DOCKET# ER04-449, 000, New York Independent System Operator, Inc. and New York Transmission Owners

OTHER#S ER04-449, 001, New York Independent System Operator, Inc. and New York Transmission Owners

ER04-449, 002, New York Independent System Operator, Inc. and New York Transmission Owners

E-13.

DOCKET# ER04-609, 000, California Independent System Operator Corporation

OTHER#S ER04-609, 001, California Independent System Operator Corporation

ER04-609, 002, California Independent System Operator Corporation

E-14.

DOCKET# ER03-452, 003, Conjunction LLC

OTHER#S ER03-452, 002, Conjunction LLC

E-15.

DOCKET# ER04-901, 000, Entergy Services, Inc

E-16.

DOCKET# ER04-563, 000, Southern Company Service Inc.

OTHER#S ER04-563, 001, Southern Company Service Inc.

E-17.

DOCKET# ER04-730, 000, Allegheny Energy Supply Company, LLC

E-18.

OMITTED

E-19.

DOCKET# ER03-406, 005, PJM Interconnection, L.L.C.

E-20.

DOCKET# ER03-1117, 001, PJM Interconnection, L.L.C.

E-21.

OMITTED

E-22.

DOCKET# EC04-36, 000, Sunbury Generation, LLC and Duquesne Power, L.P.

OTHER#S ER98-4159, 004, Duquesne Light Company

ER98-4159, 003, Duquesne Light Company

ER99-1293, 003, Monmouth Energy, Inc.

ER99-1293, 002, Monmouth Energy, Inc.

ER01-2317, 003, Metro Energy, L.L.C.

ER01-2317, 002, Metro Energy, L.L.C.

ER03-320, 005, NM Colton Genco, L.L.C.

ER03-320, 003, NM Colton Genco, L.L.C.

ER03-321, 005, NM Mid-Valley Genco, L.L.C.

ER03-321, 003, NM Mid-Valley Genco, L.L.C.

ER03-322, 005, NM Milliken Genco, L.L.C.

ER03-322, 003, NM Milliken Genco, L.L.C.

ER04-268, 001, Duquesne Power, L.P.

ER04-268, 000, Duquesne Power, L.P.

E-23.

DOCKET# EC04-104, 000, Virginia Electric and Power Company, UAE Mecklenburg Cogeneration LP, Mecklenburg Cogenco, Inc., Cogeneration Capital Corp., United American Energy Holdings Corp., and United American Energy Corp.

E-24.

DOCKET# TX04-2, 000, Nevada Power Company

E-25.

DOCKET# EL02-6, 001, Dynegy Midwest Generation, Inc. and Dynegy Power Marketing, Inc v. Commonwealth Edison Company

OTHER#S EL03-32, 001, Illinois Power Company

E-26.

DOCKET# ER03-262, 003, New PJM Companies American Electric Power Service Corporation, Commonwealth Edison Company, Dayton Power and Light Company, Virginia Electric and Power Company, and PJM Interconnection, LLC

OTHER#S ER03-262, 002, New PJM Companies American Electric Power Service Corporation, Commonwealth Edison Company, Dayton Power and Light Company, Virginia Electric and Power Company, and PJM Interconnection, LLC

ER03-262, 004, New PJM Companies American Electric Power Service Corporation, Commonwealth Edison Company, Dayton Power and Light Company, Virginia Electric and Power Company, and PJM Interconnection, LLC

ER03-262, 007, New PJM Companies American Electric Power Service Corporation, Commonwealth Edison Company, Dayton Power and Light Company, Virginia Electric and Power Company, and PJM Interconnection, LLC

ER03-262, 012, New PJM Companies American Electric Power Service Corporation, Commonwealth Edison Company, Dayton Power and Light Company, Virginia Electric and Power Company, and PJM Interconnection, LLC

E-27.

DOCKET# ER03-355, 002, Southern Company Services, Inc.

OTHER#S ER03-355, 003, Southern Company Services, Inc.

E-28.

OMITTED

E-29.

DOCKET# ER03-1046, 001, California Independent System Operator Corporation

OTHER#S ER03-1046, 002, California Independent System Operator Corporation

ER03-1046, 003, California Independent System Operator Corporation

ER03-1046, 004, California Independent System Operator Corporation

E-30.

OMITTED

E-31.

OMITTED

E-32.

DOCKET# TX96-4, 002, Suffolk County Electrical Agency

E-33.

DOCKET# ER02-136, 005, Allegheny Power

OTHER#S ER02-136, 006, Allegheny Power

E-34.

DOCKET# ER04-375, 003, Midwest Independent Transmission System Operator, Inc., and PJM Interconnection, L.L.C.

OTHER#S ER04-375, 001, Midwest Independent Transmission System Operator, Inc., and PJM Interconnection, L.L.C.

ER04-375, 005, Midwest Independent Transmission System Operator, Inc., and PJM Interconnection, L.L.C.

ER04-375, 006, Midwest Independent Transmission System Operator, Inc., and PJM Interconnection, L.L.C.

E-35.

DOCKET# ER04-121, 001, ISO New England Inc.

E-36.

DOCKET# ER04-554, 001, Southern Company, Services, Inc.

OTHER#S ER03-386, 005, Southern Company Services, Inc.

ER03-386, 002, Southern Company Services, Inc.

E-37.

DOCKET# EL04-57, 001, FPL Energy Marcus Hook, L.P. v. PJM Interconnection, L.L.C.

E-38.

DOCKET# RM96-11, 000, Capacity Reservation Open Access Transmission Tariffs

E-39.

DOCKET# EL04-74, 000, New England Electric Transmission Corporation, New England Hydro Transmission Corporation and New England Hydro-Transmission Electric Company, Inc.

E-40.

DOCKET# EL04-45, 000, Vermont Electric Cooperative, Inc.

E-41.

DOCKET# EL04-101, 000, Calpine King City Cogen, LLC

OTHER#S QF85-735, 005, Calpine King City Cogen, LLC

E-42.

DOCKET# EL98-66, 000, East Texas Electric Cooperative, Inc. v. Central and South West Services, Inc., Central Power and Light Company, West Texas Utilities Company, Public Service Company of Oklahoma and Southwestern Electric Power Company

E-43.

DOCKET# ER99-4392, 004, Southwest Power Pool, Inc.

E-44.

DOCKET# ER99-1610, 006, New Century Services, Inc.

E-45.

DOCKET# EL04-65, 000, Citizens Communications Company

E-46.

DOCKET# EL04-66, 000, Vermont Electric Cooperative, Inc.

E-47.

DOCKET# EL01-50, 006, KeySpan-Ravenswood, Inc. v. New York Independent System Operator, Inc.

E-48.

DOCKET# ER03-1354, 000, Black Hills Power, Inc., Basin Electric Power Cooperative and Powder River Energy Corporation

OTHER#S ER03-1354, 001, Black Hills Power, Inc., Basin Electric Power Cooperative and Powder River Energy Corporation

ER03-1354, 002, Black Hills Power, Inc., Basin Electric Power Cooperative and Powder River Energy Corporation

E-49.

DOCKET# ER04-13, 000, Pacific Gas and Electric Company

OTHER#S ER04-13, 001, Pacific Gas and Electric Company

E-50.

DOCKET# ER04-190, 000, Midwest Generation EME, LLC

ER04-190, 002, Midwest Generation EME, LLC

OTHER#S EL04-22, 001, Midwest Generation EME, LLC v. Commonwealth Edison Company and Exelon Generation Company, LLC

E-51.

DOCKET# ER04-156, 000, Allegheny Power System Operating Companies: Monongahela Power Company, Potomac Edison Company, and West Penn Power Company, All d/b/a Allegheny Power; PHI Operating Companies: Potomac Electric Power Company, Delmarva Power & Light Company, and Atlantic City Electric Company; Baltimore Gas and Electric Company; Jersey Central Power & Light Company; Metropolitan Edison Company; PECO Energy Company; Pennsylvania Electric Company; PPL Electric Utilities Corporation; Public Service Electric and Gas Company; Rockland Electric Company; and UGI Utilities, Inc.

OTHER#S RT01-10, 000, Allegheny Power System Operating Companies; Monongahela Power Company, Potomac Edison Company, and West Penn Power Company, all d/b/a Allegheny Power

RT01-98, 000, PJM Interconnection, LLC

EL04-41, 000, Allegheny Power System Operating Companies: Monongahela Power Company, Potomac Edison Company, and West Penn Power Company, All d/b/a Allegheny Power; PHI Operating Companies: Potomac Electric Power Company, Delmarva Power & Light Company, and Atlantic City Electric Company; Baltimore Gas and Electric Company; Jersey Central Power & Light Company; Metropolitan Edison Company; PECO Energy Company; Pennsylvania Electric Company; PPL Electric Utilities Corporation; Public Service Electric and Gas Company; Rockland Electric Company; and UGI Utilities, Inc.

EL04-41, 001, Allegheny Power System Operating Companies: Monongahela Power Company, Potomac Edison Company, and West Penn Power Company, All d/b/a Allegheny Power; PHI Operating Companies: Potomac Electric Power Company, Delmarva Power & Light Company, and Atlantic City Electric Company; Baltimore Gas and Electric Company; Jersey Central Power & Light Company; Metropolitan Edison Company; PECO Energy Company; Pennsylvania Electric Company; PPL Electric Utilities Corporation; Public Service Electric and Gas Company; Rockland Electric Company; and UGI Utilities, Inc.

EL04-41, 002, Allegheny Power System Operating Companies: Monongahela Power Company, Potomac Edison Company, and West Penn Power Company, All d/b/a Allegheny Power; PHI Operating Companies: Potomac Electric Power Company, Delmarva Power & Light Company, and Atlantic City Electric Company; Baltimore Gas and Electric Company; Jersey Central Power & Light Company; Metropolitan Edison Company; PECO Energy Company; Pennsylvania Electric Company; PPL Electric Utilities Corporation; Public Service Electric and Gas Company; Rockland Electric Company; and UGI Utilities, Inc.

ER04-156, 001, Allegheny Power System Operating Companies: Monongahela Power Company, Potomac Edison Company, and West Penn Power Company, All d/b/a Allegheny Power; PHI Operating Companies: Potomac Electric Power Company, Delmarva Power & Light Company, and Atlantic City Electric Company; Baltimore Gas and Electric Company; Jersey Central Power & Light Company; Metropolitan Edison Company; PECO Energy Company; Pennsylvania Electric Company; PPL Electric Utilities Corporation; Public Service Electric and Gas Company; Rockland Electric Company; and UGI Utilities, Inc.

ER04-156, 002, Allegheny Power System Operating Companies: Monongahela Power Company, Potomac Edison Company, and West Penn Power Company, All d/b/a Allegheny Power; PHI Operating Companies: Potomac Electric Power Company, Delmarva Power & Light Company, and Atlantic City Electric Company; Baltimore Gas and Electric Company; Jersey Central Power & Light Company; Metropolitan Edison Company; PECO Energy Company; Pennsylvania Electric Company; PPL Electric Utilities Corporation; Public Service Electric and Gas Company; Rockland Electric Company; and UGI Utilities, Inc.

ER04-156, 003, Allegheny Power System Operating Companies: Monongahela Power Company, Potomac Edison Company, and West Penn Power Company, All d/b/a Allegheny Power; PHI Operating Companies: Potomac Electric Power Company, Delmarva Power & Light Company, and Atlantic City Electric Company; Baltimore Gas and Electric Company; Jersey Central Power & Light Company; Metropolitan Edison Company; PECO Energy Company; Pennsylvania Electric Company; PPL Electric Utilities Corporation; Public Service Electric and Gas Company; Rockland Electric Company; and UGI Utilities, Inc.

ER04-156, 004, Allegheny Power System Operating Companies: Monongahela Power Company, Potomac Edison Company, and West Penn Power Company, All d/b/a Allegheny Power; PHI Operating Companies: Potomac Electric Power Company, Delmarva Power & Light Company, and Atlantic City Electric Company; Baltimore Gas and Electric Company; Jersey Central Power & Light Company; Metropolitan Edison Company; PECO Energy Company; Pennsylvania Electric Company; PPL Electric Utilities Corporation; Public Service Electric and Gas Company; Rockland Electric Company; and UGI Utilities, Inc.

E-52.

DOCKET# EL04-55, 000, Haviland Holdings, Inc

E-53.

DOCKET# ER03-409, 003, Pacific Gas and Electric Company

OTHER#S ER03-409, 002, Pacific Gas and Electric Company

ER03-409, 001, Pacific Gas and Electric Company

ER03-409, 000, Pacific Gas and Electric Company

ER03-666, 003, Pacific Gas and Electric Company

ER03-666 002 Pacific Gas and Electric Company

ER03-666, 001, Pacific Gas and Electric Company

ER03-666, 000, Pacific Gas and Electric Company

E-54.

DOCKET# ER04-13, 003, Pacific Gas and Electric Company

OTHER#S ER04-377, 003, Pacific Gas and Electric Company

ER04-743, 001, Pacific Gas and Electric Company

E-55.

DOCKET# EL03-196, 000, Northern California Power Agency

E-56.

DOCKET# EL03-158, 000, Mirant Americas Energy Marketing, LP, Mirant California, LLC Mirant Delta LLC, Mirant Potrero, LLC

E-57.

DOCKET# EL03-153, 000, Dynegy Power Marketing, Inc.

E-58.

OMITTED

E-59.

DOCKET# EL03-173, 000, Sempra Energy Trading Corporation

OTHER#S EL03-201, 000, Sempra Energy Trading Corporation

E-60.

DOCKET# EL03-151, 000, Coral Power, L.L.C

OTHER#S EL03-186, 000, Coral Power, L.L.C.

E-61.

DOCKET# EL03-147, 000, City of Glendale, California

OTHER#S EL03-182, 000, City of Glendale, California

E-62.

DOCKET# EL02-129, 001, Southern California Water Company

E-63.

DOCKET# ER97-2355, 005, Southern California Edison Company

OTHER#S ER98-1261, 002, Southern California Edison Company

ER98-1685, 001, Southern California Edison Company

E-64.

DOCKET# EL02-125, 000, KeySpan Energy Development Corporation, KeySpan-Ravenswood, LLC, New York Power Authority, Electric Power Supply Association, Independent Power Producers of New York, Inc. v. New York Independent System Operator, Inc.

OTHER#S EL02-125, 001, KeySpan Energy Development Corporation, KeySpan-Ravenswood, LLC, New York Power Authority, Electric Power Supply Association, Independent Power Producers of New York, Inc. v. New York Independent System Operator, Inc.

E-65.

DOCKET# ER04-230, 002, New York Independent System Operator, Inc.

OTHER#S EL01-45, 013, New York Independent System Operator, Inc.

ER01-1385, 014, New York Independent System Operator, Inc.

ER01-3155, 005, New York Independent System Operator, Inc.

ER04-230, 004, New York Independent System Operator, Inc.

ER04-230, 005, New York Independent System Operator, Inc.

ER04-230, 003, New York Independent System Operator, Inc.

E-66.

DOCKET# ER98-495, 000, Pacific Gas and Electric Company

E-67.

OMITTED

E-68.

DOCKET# ER98-3760, 009, California Independent System Operator Corporation

OTHER#S EC96-19, 060, California Independent System Operator Corporation

ER96-1663, 063, California Independent System Operator Corporation

E-69.

OMITTED

E-70.

DOCKET# ER04-539, 001, PJM Interconnection, L.C.C.

OTHER#S ER04-539, 002, PJM Interconnection, L.L.C.

EL04-121, 000, PJM Interconnection, L.L.C.

Miscellaneous Agenda

M-1.

DOCKET# RM01-10, 002, Standards of Conduct for Transmission Providers

M-2.

DOCKET# RM02-4, 002, Critical Energy Infrastructure Information

OTHER#S PL02-1, 002, Critical Energy Infrastructure Information

RM03-6, 001, Amendments to Conform Regulations with Order No. 630 (Critical Energy Infrastructure Information Final Rule)

Markets, Tariffs and Rates—Gas

G-1.

DOCKET# RP04-155, 000, Northern Natural Gas Company

G-2.

DOCKET# RP04-336, 000, Kinder Morgan Interstate Gas Transmission, LLC

G-3.

DOCKET# CP01-415, 016, East Tennessee Natural Gas Company

OTHER#S RP04-398, 000, East Tennessee Natural Gas Company

G-4.

OMITTED

G-5.

DOCKET# RP04-381, 000, CenterPoint Energy Gas Transmission Company

G-6.

OMITTED

G-7.

DOCKET# RP00-477, 004, Tennessee Gas Pipeline Company

OTHER#S RP98-99, 009, Tennessee Gas Pipeline Company

RP00-477, 005, Tennessee Gas Pipeline Company

RP01-18, 004, Tennessee Gas Pipeline Company

RP03-183, 001, Tennessee Gas Pipeline Company

G-8.

DOCKET# RP98-52, 053, Southern Star Central Gas Pipeline Inc.

OTHER#S SA98-33, 004, Pioneer Natural Resources USA, Inc.

G-9.

DOCKET# RP02-114, 004, Tennessee Gas Pipeline Company

OTHER#S RP02-114, 005, Tennessee Gas Pipeline Company

RP02-114, 006, Tennessee Gas Pipeline Company

G-10.

DOCKET# RP03-262, 004, Natural Gas Pipeline Company of America

G-11.

DOCKET# RP04-276, 001, Southern Star Central Gas Pipeline, Inc.

G-12.

DOCKET# OR01-2, 003, Big West Oil Company v. Frontier Pipeline Company and Express Pipeline Partnership

OTHER#S OR01-4, 002, Chevron Products Company v. Frontier Pipeline Company and Express Pipeline Partnership

G-13.

OMITTED

G-14.

DOCKET# TS04-230, 000, Black Marlin Pipeline Company

OTHER#S TS04-172, 000, Discovery Gas Transmission, LLC

TS04-257, 000, Honeoye Storage Corporation and KeySpan LNG, LP

TS04-258, 000, Nornew Energy Supply, Inc.

TS04-7, 000, ONEOK, Inc.

TS04-7, 001, ONEOK, Inc.

TS04-1, 000, Trans-Union Interstate Pipeline, L.P.

G-15.

DOCKET# PL04-3, 000, Natural Gas Interchangeability

G-16.

DOCKET# RP04-360, 000, Maritimes & Northeast Pipeline, L.L.C.

G-17.

DOCKET# RP04-371, 000, Viking Gas Transmission Company

G-18.

OMITTED

G-19.

DOCKET# RP04-349, 000, Tennessee Gas Pipeline Company

G-20.

DOCKET# RP98-18, 011, Iroquois Gas Transmission System, L.P.

Energy Projects—Hydro

H-1.

DOCKET# P-2778, 005, Idaho Power Company

H-2.

DOCKET# P-2777, 007, Idaho Power Company

H-3.

DOCKET# P-2061, 004, Idaho Power Company

H-4.

DOCKET# P-1975, 014, Idaho Power Company

H-5.

DOCKET# P-2055, 010, Idaho Power Company

H-6.

DOCKET# P-696, 013, PacifiCorp

H-7.

OMITTED

H-8.

DOCKET# P-1971, 089, Idaho Power Company

OTHER#S P-1971, 054, Idaho Power Company

H-9.

DOCKET# P-11393, 021, City of Saxman, Alaska

H-10.

DOCKET# P-803, 065, Pacific Gas and Electric Company

Energy Projects—Certificates

C-1.

DOCKET# RP04-139, 000, Virginia Natural Gas, Inc. v. Columbia Gas Transmission Corporation

C-2.

DOCKET# CP04-104, 000, Transwestern Pipeline Company

C-3.

DOCKET# CP04-367, 000, Unocal Windy Hill Gas Storage LLC

C-4.

DOCKET# CP04-79, 000, ANR Pipeline Company

C-5.

DOCKET# CP03-32, 003, Northwest Pipeline Corporation

C-6.

DOCKET# CP04-48, 001, Chandeleur Pipe Line Company

C-7.

DOCKET# CP04-102, 000, CenterPoint Energy Gas Transmission Company

C-8.

DOCKET# CP04-58, 002, Sound Energy Solutions

Magalie R. Salas,
Secretary.

The Capitol Connection offers the opportunity for remote listening and viewing of the meeting. It is available for a fee, live over the Internet, via C-Band Satellite. Persons interested in receiving the broadcast, or who need information on making arrangements should contact David Reininger or Julia Morelli at the Capitol Connection (703-993-3100) as soon as possible or visit the Capitol Connection Web site at http://www.capitolconnection.gmu.edu and click on “FERC”.

[FR Doc. 04-17162 Filed 7-23-04; 11:47 am]

BILLING CODE 6717-01-P